ENVIRONMENTAL PROTECTION AGENCY

[FRL-9165-7]

Notice of Tentative Approval and Solicitation of Request for a Public Hearing for Public Water System Supervision Program Revision for the State of West Virginia

AGENCY: Environmental Protection Agency (EPA).

ACTION: Notice of tentative approval and solicitation of request for a public hearing.

SUMMARY: Notice is hereby given in accordance with the provisions of Section 1413 of the Safe Drinking Water Act, as amended, and the rules governing National Primary Drinking Water Regulations, and their implementation, that the State of West Virginia has adopted drinking water regulations for the Lead and Copper Rule Short Term Revisions and the Ground Water Rule. EPA has determined that West Virginia's Lead and Copper Rule Short Term Revisions and Ground Water Rule meet all minimum federal requirements and are no less stringent than the corresponding federal regulations. Therefore, EPA has tentatively decided to approve the State program revisions. All interested parties are invited to submit written comments on this determination and may request a public hearing.

DATES: Comments or a request for a public hearing must be submitted by July 22, 2010, to the Regional Administrator at the address shown below. Comments may also be submitted electronically to johnson.wandaf@epa.gov. Frivolous or insubstantial requests for a hearing may be denied by the Regional Administrator. However, if a substantial request for a public hearing is made by July 22, 2010, a public hearing will be held. If no timely and appropriate request for a hearing is received and the Regional Administrator does not elect to hold a hearing on his own motion, this determination shall become final and effective on July 22, 2010. Any request for a public hearing shall include the following information: (1) The name, address, and telephone number of the individual, organization, or other entity requesting a hearing; (2) a brief statement of the requesting person's interest in the Regional Administrator's determination and of information that the requesting person intends to submit at such hearing; (3) the signature of the individual making the request; or, if the request is made on behalf of an organization or other entity, the signature of a responsible official of the organization or other entity.

SUPPLEMENTARY INFORMATION: Information on EPA's determination is available for public view between 8 a.m. and 4:30 p.m., Monday through Friday, at the following offices:

• Drinking Water Branch, Water Protection Division, U.S. Environmental Protection Agency Region III, 1650 Arch Street, Philadelphia, PA 19103-2029.

• Office of the Director, Environmental Engineering Division, West Virginia Department of Health and Human Resources, Capitol and Washington Streets, 1 Davis Square, Suite 200, Charleston, West Virginia 25301-1798.

FOR FURTHER INFORMATION CONTACT: Wanda Johnson, Drinking Water Branch (3WP21) at the Philadelphia address given above; telephone 215-814-3249 or fax 215-814-2318.

Dated: June 10, 2010.
William C. Early,
Acting Regional Administrator, EPA, Region III.

[FR Doc. 2010-15044 Filed 6-21-10; 8:45 am]

BILLING CODE 6569-50-P